DEPARTMENT OF HEALTH AND HUMAN SERVICES

National Institutes of Health

National Library of Medicine Notice of Meetings; Amended Notice of Meeting

Notice is hereby given of a change in the meeting of the Board of Regents, May 11-12, 2021, 10:00 a.m. to 4:00 p.m., held virtually, which was published in the Federal Register on March 2, 2021, 86 FR 39, Page 12197.

This notice is being amended to change the meeting to a one-day meeting on May 11, 2021. The URL link to this meeting is: https://videocast.nih.gov. Any member of the public may submit written comments no later than 15 days after the meeting.

Dated: March 31, 2021.
Ronald J. Livingston, Jr.,
Program Analyst, Office of Federal Advisory Committee Policy.

[FR Doc. 2021-06992 Filed 4-5-21; 8:45 am]

BILLING CODE 4140-01-P